DEPARTMENT OF TRANSPORTATION

Office of the Secretary

Aviation Proceedings, Agreements Filed the Week Ending June 11, 2004

The following agreements were filed with the Department of Transportation under the provisions of 49 U.S.C. 412 and 414. Answers may be filed within 21 days after the filing of the application.

Docket Number: OST-2004-18031.

Date Filed: June 7, 2004.

Parties: Members of the International Air Transport Association.

Subject: PTC2 EUR 0558 dated June 8, 2004, Mail Vote 379—Resolution 010a, TC2 Special Passenger Amending Resolution Within Europe. Intended effective date: July 1, 2004.

Docket Number: OST-2004-18044.

Date Filed: June 8, 2004.

Parties: Members of the International Air Transport Association.

Subject: PTC COMP 1140 dated June 4, 2004. Resolutions except within Europe and between USA/US Territories and Austria, Belgium, Chile, Czech Republic, Finland, France, Germany, Iceland, Italy, Korea (Rep. of), Malaysia, Netherlands, New Zealand, Panama, Scandinavia, Switzerland r1-r14, PTC COMP 1141 dated June 4, 2004. Resolutions between USA/US Territories and Austria, Belgium, Chile, Czech Republic, Finland, France, Germany, Iceland, Italy, Korea (Rep. of), Malaysia, Netherlands, New Zealand, Panama, Scandinavia, Switzerland r15-r25, PTC COMP 1142 dated June 8, 2004, Technical Correction to Resolution 002rr, PTC COMP 1143 dated June 8, 2004. Intended effective date: July 1, 2004.

Andrea M. Jenkins,
Program Manager, Docket Operations, Federal Register Liaison.

[FR Doc. 04-14195 Filed 6-22-04; 8:45 am]

BILLING CODE 4910-62-P